DEPARTMENT OF THE INTERIOR

National Park Service

Notice of Intent To Prepare an Environmental Impact Statement for the Anacostia Park Wetlands Management Plan With Goose Management Strategies

AGENCY: National Park Service, Department of the Interior.

ACTION: Notice of Intent To Prepare an Environmental Impact Statement for the Anacostia Park Wetlands Management Plan With Goose Management Strategies.

SUMMARY: In accordance with § 102(2)(C) of the National Environmental Policy Act (42 U.S.C. 4321 et. seq.), the National Park Service (NPS) will prepare an Environmental Impact Statement for the Anacostia Park Wetlands Management Plan with Goose Management Strategies (EIS).

The current Proposed Action is a modification of the original proposal to prepare an Environmental Assessment. Based on comments received during internal scoping (February 2007), agency scoping (March 2007) and public scoping (June-August 2007) for the Anacostia Park Wetlands Restoration Plan with Goose Management Strategies Plan/Environmental Assessment (EA), the NPS recognizes that wetland management actions could result in some significant impacts to the park's resources.

This notice serves as an announcement of an additional 30-day public comment period. Comments submitted to the park or through Planning, Environment and Public Comment (PEPC) during the public scoping period (June 25-August 10, 2007) and at the public meetings (July 17 and 18, 2007) for the EA will be considered as part of the planning process for the current proposed action and do not need to be resubmitted. The intent of this notice is to obtain suggestions and additional information on the scope of issues to be addressed in the EIS.

DATES: NPS is soliciting further public input into this planning process until February 8, 2008.

ADDRESSES: Comments may be submitted through the Planning, Environment and Public Comment (PEPC) Web site at http://parkplanning.nps.gov/anac or they may be submitted by mail to: Superintendent, National Capital Parks East, RE: Wetlands Restoration Plan/EIS, 1900 Anacostia Dr., SE., Washington, DC 20020.

Before including your address, phone number, e-mail address, or other personal identifying information in your comment, you should be aware that your entire comment—including your personal identifying information—may be made publicly available at any time. While you can ask us in your comment to withhold your personal identifying information from public review, we cannot guarantee that we will be able to do so.

The NPS considers public participation and input as an integral part in the planning and environmental impact analysis process guiding preparation of the EIS. As mentioned above, comments submitted during the public scoping process for the EA do not need to be resubmitted, but additional input is welcome.

FOR FURTHER INFORMATION CONTACT: Stephen Syphax, Supervisory Resources Management Specialist, National Capital Parks-East, RE: Wetlands Restoration Plan/EIS, at 1900 Anacostia Drive, SE., Washington, DC 20020, by e-mail at Stephen_Syphax@nps.gov, or by telephone at (202) 690-5160.

SUPPLEMENTARY INFORMATION: The purpose of this action is to develop and implement a wetlands management plan that facilitates the protection of natural wetland functions within Anacostia Park. Action is needed at this time to address the protection of natural wetland functions within wetlands in Anacostia Park. A plan is considered necessary to identify wetland restoration strategies that address factors affecting current and future restoration activities.

The Anacostia River was historically flanked with nearly 2,500 acres of tidal marsh. However, in the early 20th century the Army Corps of Engineers was charged with a major “reclamation” effort designed to improve navigation by channeling and containing the river within a stone seawall. Tidal flats and wetlands were also drained and filled to help rid the area of mosquito-borne diseases.

Public and government interest in restoring wetlands in the Anacostia River Watershed grew in the 1980s and the National Park Service began working with others to restore nearly 100 acres of tidal marsh.

Over the past decade an increasing number of Canada geese have been observed in Anacostia Park. Normally a migratory species, these “resident” geese are the descendents of individuals that were captured and prevented from migrating in order to attract more of their kind. As a result, their offspring never migrated either. The abundance of food and lack of predators in urban areas have fostered a rapidly growing population of these non-migratory Canada geese.

In recent years, invasive exotic plant species have also increased, and restored wetlands have proven to be especially vulnerable to these. Construction methods, soil elevations, and hydrologic regimes have also proven to be critical to the success or failure of these efforts.

Through scoping efforts, several draft objectives were outlined for the EIS:

General—Ensure actions are consistent with the laws, policies and regulations that guide the National Park Service.

Habitat and Vegetation—Restore, protect, and maintain wetlands for native fish and wildlife populations; maintain native wetlands vegetation and manage the encroachment of invasive and exotic plant species; and restore, protect, and maintain wetland functions.

Wildlife—Manage the resident Canada goose population to allow for the restoration and protection of park resources.

Visitor Experience—Enhance visitor experience by restoring, maintaining, protecting, and interpreting wetlands; and enhance public understanding of the value of wetland restoration and issues associated with the management of resident Canada geese.

Park Operations—Consider and plan for impacts of wetland restoration efforts and resident Canada goose management response activities on current park operations, including budget, workload, and visitor experience.

Cooperation and Coordination—Cooperate and coordinate with the District of Columbia, the Army Corps of Engineers, and other governmental agencies as well as other stakeholders in implementing a wetlands management plan and goose management strategy.

Preliminary scoping also identified several factors relevant to the success of wetland restoration efforts in Anacostia Park, including: resident Canada goose herbivory, erosion and sedimentation, hydrologic regimes, wetland vegetation planting methods, urbanization effects and invasive and exotic plant species.

Some preliminary solutions have been proposed that will be evaluated as part of the planning process. To address resident Canada goose management, the following suggestions have been proposed for evaluation: Habitat alteration, visual deterrents or repellants, egg addling to control reproduction, and lethal controls such as capture and euthanasia or sharpshooting. To respond to erosion and sedimentation, proposed actions include: the use of bio logs to stabilize wetlands, vegetation evaluation, and soft and hard armoring. Suggestions for tackling issues surrounding hydrologic regimes and wetland vegetation are: Address surface elevation of wetland areas by planting vegetation appropriate to elevation, and provide conditions allowing wetlands to establish naturally without revegetation efforts. To address the effects of urbanization on the wetlands, suggestions include: Planting high uptake plants, using volunteers to remove trash, and mitigating outfall impacts. Lastly, to address the impacts of invasive and exotic plants potential actions include: Mapping and surveying invasive and exotic plant species in wetland areas, mechanical removal, chemical control (EPA approved herbicides), and biocontrols such as insects. The scope of the EIS includes the restored freshwater emergent tidal marshes in Anacostia Park. Potential areas for future restoration efforts will be identified in the EIS, but not analyzed in detail.

Dated: December 21, 2007.
Joseph M. Lawler,
Regional Director, National Capital Region.

[FR Doc. E8-245 Filed 1-8-08; 8:45 am]

BILLING CODE 4312-JK-P